DEPARTMENT OF DEFENSE

Department of the Army

[Docket ID: USA-2016-HQ-0021]

Privacy Act of 1974; System of Records

AGENCY: Department of the Army, DoD.

ACTION: Notice to alter a system of Records.

SUMMARY: The Department of the Army proposes to alter a system of records notice AAFES 0410.01, entitled “Employee Travel Files” to process official travel requests for military and civilian employees of the Army and Air Force Exchange Service; to determine eligibility of individual's dependents to travel; to obtain necessary clearance where foreign travel is involved, including assisting individual in applying for passports and visas and counseling where proposed travel involves visiting/transiting communist countries and danger zones.

DATES: Comments will be accepted on or before July 13, 2016. This proposed action will be effective on the date following the end of the comment period unless comments are received which result in a contrary determination.

ADDRESSES: You may submit comments, identified by docket number and title, by any of the following methods:

* Federal Rulemaking Portal: http://www.regulations.gov Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Chief, FOIA and Privacy, Department of the Army, U.S. Army Records Management and Declassification Agency, 7701 Telegraph Road, Casey Building, Suite 144, Alexandria, VA 22325-3905; telephone (703) 428-7499.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/. The proposed systems reports, as required by 5 U.S.C. 552a of the Privacy Act, as amended, were submitted on May 23, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: June 8, 2016.
Aaron Siegel,
Alternate OSD Federal Register Liaison Officer, Department of Defense.

AAFES 0410.01

System name:

Employee Travel Files (July 23, 2003, 68 FR 43502).

Changes:

* * * * *

System location:

Delete entry and replace with “Headquarters, Army and Air Force Exchange Service, 3911 South Walton Walker Boulevard, Dallas, TX 75236-1598; Exchange Regions and Area Exchanges at posts, bases, and satellites world-wide. Official mailing addresses are published as an appendix to the Army's compilation of systems of records notices.”

Categories of individuals covered by the system:

Delete entry and replace with “Employees of the Army and Air Force Exchange Service (Exchange) and their family members authorized to perform official travel.”

Categories of records in the system:

Delete entry and replace with “Documents pertaining to travel of persons on official Government business, and/or their dependents, including travel assignment orders, authorized leave en route, availability of quarters and/or shipment of household goods and personal effects, application for passport/visas; security clearance; travel expense vouchers; and similar related documents. This includes the full name of the employee and/or dependent, dependent's relationship to employee, last five digits of the employee's SSN, DoD ID Number, current pay grade level, current duty station, new duty station, home address, home phone number, work number, cell number, personal email address, and emergency contact's name and phone number; employee/dependent biographical information, passport number, security clearance, dependent's home phone number and address, and employee/dependent date of birth.”

Authority for maintenance of the system:

Delete entry and replace with “Title 10 U.S.C. 3013, Secretary of the Army; Title 10 U.S.C. 8013, Secretary of the Air Force; Army Regulation 215-1, The Administration of Morale, Welfare, and Recreation Activities and Non-appropriated Fund Instrumentalities; Army Regulation 215-8/AFI 34-211(I), Army and Air Force Exchange Service Operations; and E.O. 9397 (SSN), as amended.”

Purpose(s):

Delete entry and replace with “To process official travel requests for military and civilian employees of the Army and Air Force Exchange Service; to determine eligibility of individual's dependents to travel; to obtain necessary clearance where foreign travel is involved, including assisting individual in applying for passports and visas and counseling where proposed travel involves visiting/transiting communist countries and danger zones.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

Information may be disclosed to attached or law enforcement authorities of foreign countries.

To the U.S. Department of Justice or Department of Defense legal/intelligence/investigative agencies for security, investigative, intelligence, and/or counterintelligence operations.

The DoD blanket routine uses set forth at the beginning of the Army's compilation of system of records notices may apply to this system. The complete list of DoD blanket routine uses can be found online at: http://dpcld.defense.gov/Privacy/SORNsIndex/BlanketRoutineUses.aspx”

Policies and practices for storing, retrieving, accessing, retaining, and disposing of records in the system:

Storage:

Delete entry and replace with “Paper records and electronic storage media.”

Retrievability:

Delete entry and replace with “Employee's name, SSN and/or DoD ID Number.”

Safeguards:

Delete entry and replace with “Records are maintained in a controlled facility. Physical entry is restricted by the use of locks, guards, and is accessible only to authorized personnel. Access to records is limited to person(s) with an official `need to know' who are responsible for servicing the record in performance of their official duties. Persons are properly screened and cleared for access. Access to computerized data is role-based and further restricted by passwords, which are changed periodically.”

Retention and disposal:

Delete entry and replace with “Employee Travel Files, MAC Transportation Authorizations, Ticketing Service Files, and Permanent Change of Station Orders are cutoff at the close of the fiscal year and destroyed 2 years after the cutoff.

Passport Files are destroyed when employee is separated, or when the passport has expired without request for renewal, or been revoked, whichever is sooner.

Records maintained for accounting purposes; including expense vouchers, invoices, receipted bills, copies of travel orders, travel authorizations, letters of credit and supporting documents are kept as followed: Temporary Duty Travel Files are cutoff at the close of the calendar year and destroyed 3 years after the cutoff; Permanent Change of Station files are cutoff at the close of the calendar year and destroyed 8 years after the cutoff; all other travel document copies are cutoff at the close of the calendar year and destroyed 2 years after the cutoff.

Paper files are destroyed by shredding and electronic files are deleted from database by erasure.”

System manager(s) and address:

Delete entry and replace with “Director/Chief Executive Officer, Army and Air Force Exchange Service, 3911 South Walton Walker Boulevard, Dallas, TX 75236-1598.”

Notification procedure:

Delete entry and replace with “Individuals seeking to determine whether information about themselves is contained in this system should address written inquiries to the Director/Chief Executive Officer, Army and Air Force Exchange Service, ATTN: Director, Administrative Services Division, 3911 South Walton Walker Boulevard, Dallas, TX 75236-1598.

Requests should contain the individual's full name, SSN (last four) or DoD ID number, current address, telephone number, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature).'

If executed within the United States, its territories, possessions, or commonwealths: `I declare (or certify, verify, or state) under penalty of perjury that the foregoing is true and correct. Executed on (date). (Signature).'”

Record access procedures:

Delete entry and replace with “Individuals seeking access to information about themselves contained in this system should address written inquiries to the Director/Chief Executive Officer, Army and Air Force Exchange Service, ATTN: FOIA/Privacy Manager, 3911 South Walton Walker Boulevard, Dallas, TX 75236-1598.

Requests should contain the individuals' full name, SSN (last four) or DoD ID number, current address, telephone number, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'”

Contesting record procedures:

Delete entry and replace with “The Army's rules for accessing records and for contesting contents and appealing initial agency determinations are contained in 32 CFR part 505, Army Privacy Program or may be obtained from the system manager.”

Record source categories:

Delete entry and replace with “From the Exchange employee or other DoD agencies.”

* * * * *

[FR Doc. 2016-13894 Filed 6-10-16; 8:45 am]

BILLING CODE 5001-06-P